ENVIRONMENTAL PROTECTION AGENCY

40 CFR Part 282

[EPA-R04-UST-2024-0279; FRL-12181-03-R4]

North Carolina: Final Approval of State Underground Storage Tank Program Revisions, Codification, and Incorporation by Reference; Correction

AGENCY: Environmental Protection Agency (EPA).

ACTION: Direct final rule; correction.

SUMMARY: The Environmental Protection Agency (EPA) is issuing a correction to a direct final rule that was published in the Federal Register on Tuesday, October 1, 2024, which will be effective on December 2, 2024. In the direct final rule, the EPA is approving revisions to the State of North Carolina's Underground Storage Tank Program under subtitle I of the Resource Conservation and Recovery Act (RCRA). In addition, the direct final rule codifies the EPA's approval and incorporates by reference those provisions of the State statutes and regulations that the EPA has determined meet the requirements for approval. This document corrects inadvertent errors introduced in preparing the amendatory regulatory text for publication. These corrections do not include any substantive changes to the direct final rule.

DATES: The correction is effective December 2, 2024.

ADDRESSES: The EPA has established a docket for this action under Docket ID No. EPA-R04-UST-2024-0279. All documents in the docket are listed on the https://www.regulations.gov website. Although listed in the index, some information is not publicly available, e.g., CBI or other information whose disclosure is restricted by statute. Certain other material, such as copyrighted material, is not placed on the internet and will be publicly available only in hard copy form. Publicly available docket materials are available electronically through https://www.regulations.gov.

FOR FURTHER INFORMATION CONTACT: Upendra Giri, RCRA Programs and Cleanup Branch, Land, Chemicals, and Redevelopment Division, U.S. Environmental Protection Agency, Region 4, Atlanta Federal Center, 61 Forsyth Street SW, Atlanta, Georgia 30303-8960; Phone number: (404) 562-8185; email address: giri.upendra@epa.gov. Please contact Upendra Giri by phone or email for further information.

SUPPLEMENTARY INFORMATION: In FR Doc. 2024-22541 appearing at 89 FR 79756 in the Federal Register of Tuesday, October 1, 2024, the following corrections are made:

§ 282.83 [Corrected]

In § 282.83(d)(1), beginning in the first column of page 79761 and ending in the third column of page 79762, correct the paragraph level designation for each of the 5th level paragraphs from non-italicized Arabic numerals to italicized Arabic numerals.

Dated: November 15, 2024.
César A. Zapata,
Acting Deputy Regional Administrator, Region 4.

[FR Doc. 2024-27123 Filed 11-20-24; 8:45 am]

BILLING CODE 6560-50-P